DEPARTMENT OF TRANSPORTATION

Federal Railroad Administration

Notice of Funding Opportunity for the Fiscal Year 2021-2024 Restoration and Enhancement Grant Program

AGENCY: Federal Railroad Administration (FRA), Department of Transportation (DOT).

ACTION: Notice of Funding Opportunity (NOFO or Notice), Assistance Listing (formerly CFDA) #20.324.

SUMMARY: This Notice details the application requirements and procedures to obtain grant funding for eligible projects under the Restoration & Enhancement (R&E) Grant Program for Fiscal Years (FY) 2021-2024. This Notice solicits applications for the R&E Grant Program with funds made available by the following: Consolidated Appropriations Act, 2021, the Infrastructure Investment and Jobs Act (IIJA), and additional carryover funding from Consolidated Appropriations Act, 2019 and Further Consolidated Appropriations Act, 2020. The opportunity described in this Notice is made available under Assistance Listings Number 20.324, “Restoration & Enhancement Grant Program.”

DATES: Applications for funding under this solicitation are due no later than 11:59 p.m. Eastern Time (ET), September 30, 2024. Applications for funding received after 11:59 p.m. ET on September 30, 2024 will not be considered for funding. Incomplete applications will not be considered for funding. Applications that do not adequately address the information requested may be considered incomplete. Adequacy of information provided will also be considered in evaluating the responsiveness to the evaluation criteria. See Section D of this Notice for additional information on the application and submission requirements and Section E of this Notice for additional information on review of applications.

ADDRESSES: Applications must be submitted via www.Grants.gov. Only applicants that comply with all submission requirements described in this Notice and submit applications through www.Grants.gov will be eligible for award.

FOR FURTHER INFORMATION CONTACT: For further information concerning this notice, please contact the FRA NOFO Support program staff via email at FRA-NOFO-Support@dot.gov. If additional assistance is needed, you may contact Mr. Marc Dixon, Office of Rail Program Development, Federal Railroad Administration, at email: marc.dixon@dot.gov; or telephone: 202-493-0614.

SUPPLEMENTARY INFORMATION:

Notice to applicants: FRA recommends that applicants read this Notice in its entirety prior to preparing application materials. Definitions of key terms used throughout the Notice are provided in Section A(3) below. These key terms are capitalized throughout the Notice. There are several administrative and specific eligibility requirements described herein with which applicants must comply.

Table of Contents

A. Program Description

B. Federal Award Information

C. Eligibility Information

D. Application and Submission Information

E. Application Review Information

F. Federal Award Administration Information

G. Federal Awarding Agency Contacts

H. Other Information

Summary Overview of Key Information—Restoration & Enhancement Grant Program (R&E Program)
Issuing Agency | U.S. Department of Transportation, Federal Railroad Administration (FRA).
Program Overview | The R&E Program provides grants for Initiating, Restoring, or Enhancing Intercity Rail Passenger Transportation operations.
Objective | The objective is to help offset initial operating losses while the new or expanded Intercity Rail Passenger Transportation Services build their ridership and Revenue base, since such Services and frequencies do not realize their longer-term ridership/Revenue potential immediately upon the start of operations.
Eligible Applicants | Eligible applicants include:
| 1. A State (including the District of Columbia);
| 2. A group of States;
| 3. An entity implementing an Interstate Rail Compact;
| 4. A public agency or publicly chartered authority established by one or more States;
| 5. A political subdivision of a State;
| 6. A federally recognized Indian Tribe;
| 7. Amtrak or another Rail Carrier that provides Intercity Rail Passenger Transportation;
| 8. Any Rail Carrier in partnership with at least one of the entities described in (1) through (6), consistent with 49 U.S.C. 22908(a)(1)(H); and
| 9. Any combination of the entities described in (1) through (6), consistent with 49 U.S.C. 22908(a)(1)(I).
Funding | This NOFO will provide R&E funding of $153,845,680 to provide financial assistance for projected Net Operating Costs. The R&E funding may not exceed the following for each Year of Service:
| • 90 percent for the first Year of Service;
| • 80 percent for the second Year of Service;
| • 70 percent for the third Year of Service;
| • 60 percent for the fourth Year of Service;
| • 50 percent for the fifth Year of Service; and,
| • 30 percent for the sixth Year of Service.
Deadline | Applications for funding under this solicitation are due no later than 11:59 p.m., ET September 30, 2024.

A. Program Description

1. Overview

The purpose of the R&E Grant Program (“Program” or “R&E Program”) is to provide financial assistance for Initiating, Restoring, or Enhancing Intercity Rail Passenger Transportation operations as authorized under 49 U.S.C. 22908. Funding for the Program under this NOFO is made available in the following: Consolidated Appropriations Act, 2021, Div. L, Tit. I, Public Law 116-260; IIJA, 2021, Public Law 117-58 (November 15, 2021); and carryover funding from Consolidated Appropriations Act, 2019, Div. G, Tit. I, Public Law 116-6 and Further Consolidated Appropriations Act, 2020, Div. H, Tit. I, Public Law 116-94. FRA will consider applications that are consistent with the priorities in 49 U.S.C. 22908(d). The opportunities described in this notice are made available under Assistance Listing 20.324, “Restoration and Enhancement.”

The Program plays a vital role in the success of Intercity Passenger Rail Service by offsetting initial operating losses while the new or expanded Services build their ridership and Revenue base. As experienced around the world and on the Amtrak network, new Intercity Passenger Rail Service and frequencies do not realize their longer-term ridership/Revenue potential immediately upon Initiating operations. The R&E program provides the greatest support in the first years of operation, and as ridership and Revenue grows over the first six years of operations, R&E funding is gradually reduced.

The U.S. Department of Transportation (“USDOT” or “DOT” or “Department”) seeks to fund projects that advance the Administration Priorities (also known as USDOT Strategic Goals) of safety, equity, climate change and sustainability, workforce development, job quality, and wealth creation, as described in Section E as well as the USDOT Strategic Plan, Research, Development and Technology Strategic Plan ¹ and in executive orders.²

¹ https://www.transportation.gov/sites/dot.gov/files/2023-01/USDOT%20RDT%20Strategic%20Plan%20FY22-26_010523_508.pdf.

² Executive Order 14008, Tackling the Climate Crisis at Home and Abroad (86 FR 7619)— https://www.whitehouse.gov/briefing-room/presidential-actions/2021/01/27/executive-order-on-tackling-the-climate-crisis-at-home-and-abroad/; Executive Order 13985, Advancing Racial Equity and Support for Underserved Communities Through the Federal Government (86 FR 7009)— https://www.whitehouse.gov/briefing-room/presidential-actions/2021/01/20/executive-order-advancing-racial-equity-and-support-for-underserved-communities-through-the-federal-government/; Executive Order 14025, Worker Organizing and Empowerment (86 FR 22829)— https://www.whitehouse.gov/briefing-room/presidential-actions/2021/04/26/executive-order-on-worker-organizing-and-empowerment/; and Executive Order 14052, Implementation of the Infrastructure Investment and Jobs Act (86 FR 64335)— https://www.govinfo.gov/content/pkg/FR-2021-11-18/pdf/2021-25286.pdf.

Section E, which outlines the grant selection criteria, describes the process for selecting projects that further these goals. Section F(3) describes progress and performance reporting requirements for selected projects.

2. Changes From the FY 2018-2020 R&E Program NOFO

This section describes significant changes from the prior NOFO,³ including changes to 49 U.S.C. 22908 resulting from the Program's reauthorization in IIJA Section 22304, updated or changed definitions, changes to award limits for recipients of FY 2017-2020 R&E Program grants, and direction with respect to pre-award costs.

³ The FY 2018-2019 R&E NOFO and the amendment to add FY 2020 R&E funding is available on the FRA R&E Program website: https://railroads.dot.gov/grants-loans/competitive-discretionary-grant-programs/restoration-and-enhancement-grant-program.

• The more substantive changes to 49 U.S.C. 22908 resulting from IIJA section 22304 include the following:

○ Definition of “Applicant” now includes a federally recognized Indian Tribe;

○ Definition of “Operating Assistance” added for Routes subject to section 209 of the Passenger Rail Investment and Improvement Act of 2008 (Pub. L. 110-432) (PRIIA);

○ Priorities include Routes selected under the Corridor Identification and Development Program and operated by Amtrak;

○ Funding plan requirements for initial capital and Operating Costs must now cover the first six years of operation, and, to the extent necessary, capital and Operating Costs after the first six years of operation;

○ Grant Award Term Limits are extended so R&E grants for any individual Route or Service may not provide funding for more than six years; and,

○ Maximum funding of projected Net Operating Costs may not exceed the following for each Year of Service: (1) 90 percent for the first Year of Service; (2) 80 percent for the second Year of Service; (3) 70 percent for the third Year of Service; (4) 60 percent for the fourth Year of Service; (5) 50 percent for the fifth Year of Service; and (6) 30 percent for the sixth Year of Service.

• FRA made changes to Definitions of Key Terms section, including but not limited to, updating “Operating Assistance” and “Operating Costs,” and adding terms such as “Revenue,” “Route,” “Service,” and “Year of Service.”

• Prior R&E Program grant selections: Section B(2) describes award limits for projects selected under the FY 2017-2020 R&E Program. Section D(2)(a)(iii) provides direction to applicants for additional funding for the same Service on the same Route.

• Additional guidance on timing of incurrence of pre-award costs.

• Each applicant must include information that explains and supports its authority to undertake the operations activities in the proposed project, either by itself or through agreement, if selected for an award.

• Changes to applicability of written agreements required under 49 U.S.C. 22905(c)(1).

3. Definitions of Key Terms

Terms defined in this section are capitalized throughout this NOFO.

a. “Commuter Rail Passenger Transportation” means short-haul rail passenger transportation in metropolitan and suburban areas usually having reduced fare, multiple rides, and commuter tickets, and morning and evening peak period operations, consistent with 49 U.S.C. 24102(3); the term does not include rapid transit operations in an urban area that are not connected to the general railroad system of transportation.

b. “Enhancing” or “Enhance” means upgrading or modifying the Service currently offered on an Intercity Rail Passenger Transportation Route or train. Examples include adding a station stop, increasing frequency of a train (e.g., tri-weekly to daily train Service or increasing daily train Service frequencies), or modifying on-board Services offered on the train (e.g., food or sleeping accommodations).

c. “Initiating” or “Initiation” or “Initiate” means commencing Service on an Intercity Rail Passenger Transportation Route that did not previously operate Intercity Rail Passenger Transportation.

d. “Intercity Rail Passenger Transportation” means rail passenger transportation, except Commuter Rail Passenger Transportation. See 49 U.S.C. 22901(3). In this NOFO, “Intercity Passenger Rail Service” and “Intercity Passenger Rail Transportation” are equivalent terms to “Intercity Rail Passenger Transportation.”

e. “Interstate Rail Compact” means a legislatively enacted agreement or compact that establishes a formal, legally binding relationship between two or more States to prepare for and provide Intercity Passenger Rail Service.

f. “Lifecycle Stage” means each of the consecutive stages of a capital project as it is developed and implemented that includes Systems Planning, Project Planning, Project Development, Final Design, Construction, and Operation. Each sequential stage involves specific activities. Lifecycle Stages are further described in FRA's Guidance on Development and Implementation of Railroad Capital Projects (88 FR 2163, Jan. 12, 2023) which can be found here: https://railroads.dot.gov/elibrary/fra-guidance-development-and-implementation-railroad-capital-project.

g. “National Environmental Policy Act” or “NEPA” is a federal law that requires federal agencies to analyze and document the environmental impacts of a proposed action in consultation with appropriate federal, state, and local authorities, and with the public. NEPA classes of action include an Environmental Impact Statement (EIS), Environmental Analysis (EA) or Categorical Exclusion (CE). The NEPA class of action depends on the nature of the proposed action, its complexity, and the potential impacts. For purposes of this NOFO, NEPA also includes all related federal laws and regulations including the Clean Air Act, Section 4(f) of the Department of Transportation Act, Section 7 of the Endangered Species Act, and Section 106 of the National Historic Preservation Act. Additional information regarding FRA's environmental processes and requirements are located at https://railroads.dot.gov/rail-network-development/environment/environment.

h. “Net Operating Cost(s)” is defined as Operating Costs incurred minus Revenue for each Service on a Route.

i. “Operating Assistance” is defined in 49 U.S.C. 22908(a)(2), with respect to any Route subject to Section 209 of the Passenger Rail Investment and Improvement Act of 2008 (Pub. L. 110-432) (PRIIA), as any cost allocated, or that may be allocated, to a Route pursuant to the cost methodology established under Section 209 of PRIIA or under 49 U.S.C. 24712, as described in the Section 209 policy approved by the State-Amtrak Intercity Passenger Rail Committee.⁴ Such costs are equivalent to the Section 209 state responsibility or the operating cost obligation allocated to the state under the cost methodology policy.

⁴ FRA understands the definition of “Operating Assistance” under 49 U.S.C. 22908(a)(2) as providing information about eligible Operating Costs for Routes that are subject to section 209. Therefore, for the purposes of this NOFO, FRA uses the term “Operating Assistance” in the definition of “Operating Costs” for Routes that are subject to section 209.

In addition, 49 U.S.C. 22908(b) uses the term “Operating Assistance” in authorizing the Secretary to “develop and implement a program for issuing Operating Assistance grants to applicants.” To avoid confusion, FRA does not use the term “Operating Assistance” elsewhere in this NOFO.

j. “Operating Costs” means,

i. With respect to any Route subject to Section 209 of PRIIA, the Operating Assistance associated with the operation of the Service for each Year of Service. Eligible capital costs are limited to capital overhaul (i.e., investment) costs for Amtrak-owned equipment in Service, including locomotives, cab cars, coaches, and food Service cars.

ii. With respect to Routes not subject to Section 209 of PRIIA, the expenses associated with the operation of the Service for each Year of Service. Examples of such expenses may include: staffing costs for train engineers, conductors, and on-board Service crew; diesel fuel or electricity costs associated with train propulsion power; station costs such as ticket sales, customer information, and train dispatching Services; station building utility and maintenance costs; lease payments on rolling stock; routine planned maintenance costs of equipment and train cleaning; host railroad access costs; train yard operation costs; general and administrative costs; and management, marketing, sales and reservations costs. Capital costs associated with equipment are not eligible expenses for Routes that are not subject to section 209 of PRIIA.

k. “Revenue” means the Revenue attributable to the Service, including but not limited to ticket Revenue and food and beverage Revenue, calculated annually for each Year of Service, consistent with the cost methodology policy required under section 209 PRIIA and further described in 49 U.S.C. 24712, unless otherwise agreed to by FRA and the applicant for Routes not subject to section 209 of PRIIA.

l. “Rail Carrier” means a person providing common carrier railroad transportation for compensation. See 49 U.S.C. 24102.

m. “Restoring” or “Restore” means reinstating Service to an Intercity Rail Passenger Transportation Route that formerly operated Intercity Rail Passenger Transportation.

n. “Route” means the point-to-point geographic location where a particular Service is being offered.

o. “Service” means the specific Enhancement activity or activities that are proposed to be funded under this NOFO, or the operation on the Route that is being Initiated or Restored with funding under this NOFO. Examples include: the addition of one or more frequencies or the addition of on-board Services to trains on a Route. Service does not include excursion train Services or short-term Services for the purpose of collecting data.

p. “Year of Service” means the 365-day period used for calculating the maximum funding under the Program as well as the period in which costs may be incurred to be eligible for reimbursement. The recipient may choose to start the first Year of Service at any point between the initial incurrence of cost for the Service (including start-up costs) and the first day of Revenue Service.

B. Federal Award Information

1. Available Award Amount

The total funding available for awards under this NOFO is $153,845,680.⁵ Should additional R&E funds become available after the release of this NOFO, FRA may elect to award such funds to applications received under this NOFO.

⁵ Of the funding made available from FY 2021-2023, $144,904 from FY 2021, $1,535,000 from FY 2022, and $1,535,000 from FY 2023 will be separately made available for Special Transportation Circumstances grants. Also, $47,200 from FY 2021, $250,000 from FY 2022, and $250,000 from FY 2023 will be set-aside, from R&E funding only (not the Amtrak National Network account), for award and program oversight conducted by FRA.

The total amount in the previous paragraph includes funding from previous R&E Program years: $4,527,896 is available from the FY 2021 Appropriation; $145,395,000 is available from the FY 2022-2024 advance appropriations in Title VIII of Division J of IIJA ($48,465,000 from each year); and $3,922,784 in carryover funding from the FY 2019-2020 Appropriations is available.

2. Award Limits

Under 49 U.S.C. 22908(e)(2), not more than six R&E grants may be simultaneously active. FRA considers a grant active at the time of selection. In addition, FRA considers all selections under the R&E program for the same Service, on the same Route, to the same recipient, as one R&E grant, subject to the limitations in 49 U.S.C. 22908(e). To date, FRA made four selections under the R&E Program for three Services. Two of the selections were for the same applicant, for the same Service, on the same Route; FRA considers this as a single grant. Therefore, FRA currently has three simultaneously active R&E grants.⁶ Accordingly, under this NOFO, FRA may select up to three Services on Routes that (1) do not have a currently active R&E grant or (2) do have a currently active R&E grant but the application is submitted by an applicant that is different than the applicant or recipient for the currently active R&E grant. In addition, FRA may make up to three selections for additional funding to the same recipient for Services on Routes that have a currently active R&E grant, subject to the limitations in 49 U.S.C. 22908(e). An individual Service on a Route can only be selected for one R&E award under this NOFO.

⁶ The currently active R&E grants selected from the FY 2017 and FY 2018-2020 R&E NOFOs are the CTrail Hartford Line Rail Enhancement Project; Restoring Intercity Passenger Rail Service along America's Gulf Coast; and Twin Cities-Milwaukee-Chicago Intercity Passenger Rail Service Project (now known as Borealis).

Under 49 U.S.C. 22908(e)(1), R&E grants may not provide funding for more than six years on any individual Intercity Rail Passenger Transportation Route and may not be renewed. Currently active R&E grants that were selected for three years of funding under the FY 2017 and FY 2018-20 R&E NOFOs are eligible for funding for additional Years of Service for the same Service on the same Route, not to exceed a combined total of six years.

Applicants can apply to use R&E funding for: (a) multiple Years of Service or (b) only one Year of Service, provided the Service has not already received six years of R&E funding. Recipients receiving less than six years of funding for a Service on any individual Intercity Rail Passenger Transportation Route under this NOFO and/or previous R&E NOFOs may apply for R&E grants under future NOFOs, if available.

3. Award Size

FRA anticipates selecting multiple projects for the funding made available. There are no predetermined minimum or maximum dollar thresholds for awards.

FRA strongly encourages applicants to identify and include other state and/or local public funding and/or private funding to support the proposed project to maximize competitiveness. A recipient of a R&E grant may use the grant funding in combination (i.e., administered separately but concurrently) with other federal grants that would benefit the applicable Service.

4. Award Type

FRA will make awards for projects selected under this NOFO through grant agreements or cooperative agreements. Grant agreements are used when FRA does not expect to have substantial federal involvement in carrying out the funded activity. Cooperative agreements allow for substantial federal involvement in carrying out the agreed upon investment, including technical assistance, review of interim work products, and increased program oversight. The term “grant” is used throughout this document and is intended to reference funding awarded through a grant agreement, as well as funding awarded through a cooperative agreement.

The funding provided under this NOFO will be made available to recipients on a reimbursable basis. Recipients must certify that their expenditures are allowable, allocable, reasonable, and necessary to the approved project before seeking reimbursement from FRA.

The FRA grant agreement consists of three parts: Attachment 1: Standard Terms and Conditions; Attachment 2: Project-Specific Terms and Conditions; and Terms and Conditions Exhibits. The grant agreement templates are available at: https://railroads.dot.gov/grants-loans/fra-discretionary-grant-agreements. These templates are subject to revision.

5. Concurrent Applications

DOT and FRA may concurrently solicit applications for related transportation infrastructure projects for several financial assistance programs. Applicants may submit applications requesting funding for a related project to one or more of these programs. In the application for funding under this NOFO, applicants must indicate the other program(s) to which they submitted or plan to submit an application for funding the entire project or certain components, as well as highlight new or revised information in the application responsive to this NOFO that differs from the previously submitted application(s).

C. Eligibility Information

This section of the NOFO explains applicant eligibility, project eligibility, and cost sharing or matching ⁷ requirements. Applications that do not meet the requirements in this section will be ineligible for funding. Instructions for submitting eligibility information to FRA are detailed in Section D of this Notice.

⁷ 49 U.S.C. 22908(e) identifies a maximum funding limitation for R&E grants, but it does not establish a maximum federal share or a minimum non-federal cost share requirement.

1. Eligible Applicants

Consistent with 49 U.S.C. 22908(a)(1), eligible applicants for R&E funding are:

a. A State (including the District of Columbia);

b. A group of States;

c. An entity implementing an Interstate Rail Compact;

d. A public agency or publicly chartered authority established by one or more States;

e. A political subdivision of a State;

f. A federally recognized Indian Tribe;

g. Amtrak or another Rail Carrier that provides Intercity Rail Passenger Transportation;

h. Any Rail Carrier in partnership with at least one of the entities described in paragraphs (a) through (f); and

i. Any combination of the entities described in paragraphs (a) through (f).

See Section D(2)(a)(iv) of this NOFO for information about supporting documentation required to demonstrate eligibility in the application.

If an application includes a partnership with more than one eligible applicant, the application must identify one lead eligible applicant to be the recipient, as well as primary point of contact for the application.⁸ Eligible applicants may reference entities that are not eligible applicants in an application as project partners.

⁸ If the proposed project involves executing cost sharing agreements with other partners, prior to application submission, the applicant (or lead applicant, as applicable) should coordinate with each partner to understand its respective financing/payment requirements (e.g., considerations for any partner's requirement of upfront payment of its share of costs as opposed to monthly invoicing, challenges with partner not having financial mechanism to recover any overpayment of funds to the applicant, etc.). The applicant (or lead applicant, as applicable) should describe this coordination, identified challenges, and any proposed resolution in the application. Only one eligible applicant can be the recipient, and FRA will only disburse funds to the recipient.

2. Cost Sharing or Matching

Grants for a project funded under the Program shall not exceed 90 percent of the projected Net Operating Costs for the first Year of Service; 80 percent of the Net Operating Costs for the second Year of Service; 70 percent of the projected Net Operating Costs for the third Year of Service; 60 percent of the projected Net Operating Costs for the fourth Year of Service; 50 percent of the projected Net Operating Costs for the fifth Year of Service; and 30 percent of the projected Net Operating Costs for the sixth Year of Service. Net Operating Costs not covered by the R&E grant may be comprised of eligible public sector funding (e.g., state, local, or other federal funding) or private sector funding.

Applicants must identify the source(s) of non-R&E grant funds for the Service, and they must clearly and distinctly reflect these funds in the budget sections of the application.

A recipient of a R&E grant under this NOFO may use that grant in combination with other federal grants awarded that would benefit the applicable Service.

3. Other

Operating Costs eligible for funding under this NOFO must be for projects within the United States and must be associated with Enhancing, Initiating, or Restoring Service on an Intercity Rail Passenger Transportation Route or train.

D. Application and Submission Information

Required documents for the application are outlined in the following paragraphs. Applicants must complete and submit all components of the application. See Section D(2) for the application checklist. FRA welcomes the submission of additional relevant supporting documentation, such as planning, engineering and design documentation (as applicable), and letters of support from partnering organizations, which will not count against the Project Narrative 25-page limit.

1. Address

Applicants may access application materials at https://www.Grants.gov and must submit all application materials in their entirety through https://www.Grants.gov no later than 5 p.m. ET, on September 30, 2024. Applicants must complete an Authorized Organization Representative (AOR) profile on www.Grants.gov and create a username and password. Additional information about the registration process is available at: https://www.grants.gov/web/grants/applicants/organization-registration.html.

Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; phone: 202-578-9337.

The E-Biz point of contact at the applicant's organization must respond to the registration email from Grants.gov and login at www.Grants.gov to authorize the applicant as the AOR. Please note there can be more than one AOR for an organization.

If an applicant experiences difficulty at any point during this process, please call the Grants.gov Customer Center Hotline at 1-800-518-4726, 24 hours a day, 7 days a week (closed on Federal holidays). For information and instructions on each of these processes, please see instructions at: https:// www.grants.gov/web/grants/applicants/apply-for-grants.html.

2. Content and Form of Application Submission

FRA strongly advises applicants to read this section carefully. Applicants must submit all required information and components of the application package to be considered for funding. Applications that are not submitted on time or do not contain all required documentation will not be considered for funding. To support the application, applicants may provide other relevant and available optional supporting documentation that may have been developed by the applicant, especially such documentation that provides evidence of completion of the appropriate Lifecycle Stage(s), if capital improvements are necessary before starting the operation Lifecycle Stage of the proposed Service. FRA evaluates project readiness for a Lifecycle Stage when considering a proposed project for funding. Additionally, applicants selected to receive funding must satisfy any applicable requirements in 49 U.S.C. 22905, including FRA's Buy America requirement and conditions explained in part at https://www.fra.dot.gov/page/P0185 and further in Section F(2) of this Notice.

Sharing of Application Information—FRA may share application information within USDOT or with other federal agencies if FRA determines that sharing is relevant to the respective program's objectives.

Required documents and information for an application package include the following:

Attachment(s) name | NOFO section
Project Narrative | D.2.a.
Statement of Work (SOW), project budget, estimated project schedule, and performance measures | D.2.b.i.
Capital and mobilization plan | D.2.b.ii.
Operating plan | D.2.b.iii.
Funding plan | D.2.b.iv.
Status of negotiations and agreements | D.2.b.v.
Environmental Compliance Documentation | D.2.b.vi.
Funding Commitment Supporting Documentation | D.2.a.iii.
SF 424—Application for Federal Assistance ⁹ | D.2.b.vii.
SF 424A—Budget Information for Non-Construction | D.2.b.viii.
SF 424B—Assurances for Non-Construction | D.2.b.ix.
FRA F 30—Certifications Regarding Debarment, Suspension and Other Responsibility Matters, Drug-Free Workplace Requirements and Lobbying | D.2.b.x.
FRA F 251—Applicant Financial Capability Questionnaire | D.2.b.xi.
SF LLL—Disclosure of Lobbying Activities, if applicable | D.2.b.xii.

a. Project Narrative

This section describes the minimum content required in the Project Narrative section of the grant application. The Project Narrative must follow the basic outline below to address the program requirements and assist evaluators in locating relevant information.

⁹ The amount requested from the R&E Program on the SF-424 is the official record of request, and therefore must be consistent with the amount requested in the Project Narrative and project budget, including the breakdown of federal and non-federal sources. For applications with discrepancies, FRA will defer to the funding amount in the SF-424.

Project narrative section name | NOFO section
I. Cover Page | See D.2.a.i.
II. Project Summary | See D.2.a.ii.
III. Grant Funds, Sources and Uses of Project Funds | See D.2.a.iii.
IV. Applicant Eligibility Criteria | See D.2.a.iv.
V. Project Eligibility Criteria | See D.2.a.v.
VI. Detailed Project Description | See D.2.a.vi.
VII. Project Location | See D.2.a.vii.
VIII. Evaluation and Selection Criteria | See D.2.a.viii.
IX. Project Implementation and Management | See D.2.a.ix.

The applicant must provide the content listed above in a narrative statement. The Project Narrative may not exceed 25 pages in length (excluding cover pages, table of contents, and supporting documentation). FRA will not review or consider Project Narratives beyond the 25-page limit. If possible, applicants should submit supporting documents via website links rather than hard copies. If supporting documents are submitted, applicants must clearly identify the relevant portion of the supporting document with the page numbers of the cited information in the Project Narrative. The Project Narrative must adhere to the following outline:

i. Cover Page: Include a cover page that lists the following elements in either a table or formatted list:

Project title |
Applicant (Lead Applicant, as applicable)
City(ies), State(s), Congressional District(s) where the project is located
Is this request funding an existing or new Route and/or Service?
Proposed or current Service operator?
Rail ROW owner(s)?
Host Railroad(s) of Route?
Proposed Years of Service
Projected total Operating Costs for the proposed Service for all Years of Service in this application | $
Projected Revenue for the proposed Service for all Years of Service in this application | $
Projected total Net Operating Cost for the proposed Service for all Years of Service in this application | $
Total amount of R&E funding requested for all Years of Service
Total amount of funding for Net Operating Costs not funded by proposed R&E grant for all Years of Service
Previously awarded R&E funding for the Service, if applicable, by Year of Service | R&E Program Year:/$ for Year(s) X of Service.
Was a federal grant application previously submitted for any necessary capital projects on the Route or for the Service described in this application? | If yes, please specify the program, funding year and project title of the previous application.
Are any capital improvements required to be completed before Initiation, Restoration, or Enhancement activities under this request? | If yes, please summarize.

ii. Project Summary: Provide a brief 4-6 sentence summary of the proposed project, including the Service and Route. Include challenges the proposed project aims to address and summarize the intended outcomes and anticipated benefits that will result from the proposed project.

iii. Grant Funds, Sources and Uses of Project Funds: In table format similar to the Project Funding by Year of Service Table in this section below [or: at the end of this subsection], the applicant must provide, for each Year of Service, the following: (1) Year of Service start date; (2) anticipated start date of each Year of Service; (3) amount of R&E funding requested; (4) projected Net Operating Costs; (5) estimated Operating Costs; (6) estimated Revenue; (7) percent of Net Operating Costs for which R&E funding is requested; (8) amount and source of non-R&E funding (non-federal funds and/or other federal funds, if applicable); and, (9) eligible activities for which R&E funding is requested.¹⁰ If selected for award, recipients will be expected to report Operating Costs, Revenue, and Net Operating Costs for each Year of Service.

¹⁰ Applicants should list specific eligible activities and, to the extent practical, should not group all activities under the general term “Operations.” Eligible R&E activities should be consistent with Section C(2) of this Notice. If the applicant determines that grouping certain activities into a broader term is more appropriate, the applicant should provide a narrative explanation (separate from the table) of the specific activities that are included in that term.

Applicants for additional funding for the same Service funded under a currently active R&E grant must describe how the funds under the FY 2017 and FY 2018-2020 R&E selections and the requested funding under this NOFO, if selected for award, will be used. Specifically, the applicant should describe, at a minimum, the following: (1) for FY 2017 and FY 2018-2020 R&E selections that have not yet been obligated, whether the funds under this NOFO would replace the previous R&E awards; (2) how additional funds under this NOFO will be applied to additional Years of Service; and (3) how all R&E funding will be used with respect to each Year of Service.¹¹ For such applications, in a funding table similar to the Project Funding by Year of Service Table below, add columns to identify the amount of the previous R&E selection and previously committed other funding, including the funding source(s).

¹¹ For example, the applicant should describe if it proposes to use all of the R&E grant funds from the FY 2017 and FY 2018-20 R&E selections for the first Year of Service, and use new funds under this NOFO, if selected for award, for Years of Service two (2) through six (6).

All applicants must include funding commitment letters outlining proposed or confirmed funding agreements in the amount of the projected Net Operating Costs that would not be funded through the proposed R&E grant, in an attachment or appendix to the application.¹² Also, if applicable, indicate if the requested R&E funding or non-federal and other federal funding must be obligated or spent by a certain date due to dependencies or relationships with other federal or non-federal funding sources, related projects, law, or other factors. Rail Carriers other than Amtrak should state whether they will require access to Amtrak's reservation system, stations, or facilities because they are directly related to the Rail Carrier's operations, and whether they expect the FRA to award a portion of the requested R&E grant to Amtrak for such access (and in what amount).¹³ Provide information about any requests submitted to other programs for capital funding related to the proposed project that supports the project's Initiation, Restoration, or Enhancement of the Intercity Rail Passenger Transportation Service.

¹² Applicants must indicate if funds are either (1) committed with pending formal approvals, or (2) committed with formal approvals received. If formal approvals have been received, applicants should submit evidence of the availability of funds, which may include a state/local appropriation, state/local administrative approval, board resolution, a budget document highlighting the line item or section committing funds to the proposed project, approval of programming of other federal funds, or any other similar documentation. The applicant may provide this documentation in an appendix. Documentation of previous and recent local investments in the project may convey evidence of state or local financial support for the project but are not a commitment of funds. Any funding commitment letters must be signed by an authorized representative of the entity providing the funds.

¹³ The Secretary, acting through the FRA, is permitted in 49 U.S.C. 22908(h) to award an appropriate portion of R&E grants under this NOFO to Amtrak as compensation for permitting certain access.

Project funding information must be consistent throughout all application materials, specifically the Standard Form (SF) 424, Project Narrative, SOW, project budget, and funding commitment letters.¹⁴ The project budget should be specific to the project scope described in the applicant's request for funding under this NOFO. The project budget should show how different funding sources will share in each activity and present the data in dollars and percentages. The budget should identify other federal funds the applicant is applying for, has been awarded, or intends to use for the project. Funding sources should be grouped into three categories: Non-federal, R&E Program funds that are part of this application request, and other federal funds with specific amounts from each funding source.

¹⁴ If there is a discrepancy between materials, FRA will defer to the funding amounts shown in the applicant's SF 424 as the amount requested for funding.

Project Funding by Year of Service
Year of service | Estimated operating costs | Estimated revenue | Projected net operating cost | R&E funds requested under this NOFO | Percent of net operating cost requested | Non-R&E amount/ source(s) | Eligible R&E activities by year of service ¹⁵
Year 1 [Add start date e.g., 6/01/25]
Year 2 [Add start date e.g., 6/01/26]
Year 3 [Add start date]
Year 4 [Add start date]
Year 5 [Add start date]
Year 6 [Add start date]
Total

iv. Applicant Eligibility Criteria: The applicant must explain how the applicant meets the applicant eligibility criteria outlined in Section C of this Notice. For public agencies and publicly chartered authorities established by one or more States, the explanation must include citations to the applicable enabling legislation.

¹⁵ Applicants should list specific eligible R&E activities that are consistent with Section C(2) of this Notice and should not list a general descriptive term, such as “Operations,” for example, to cover all activities.

If the applicant is eligible under 49 U.S.C. 22908(a)(1)(H) as a Rail Carrier in partnership with at least one of the other eligible entities in Section 22908(a)(1)(A) through (a)(1)(F), the applicant should explain the partnership and each entity's contribution to the partnership. Similarly, if the applicant is a combination of entities described in Section 22908(a)(1)(A) through (a)(1)(F), the application should explain the partnership and each entity's contribution to the partnership.

Applicants must identify the applicant's legal authority to receive federal financial assistance and complete the project, including management of contracts and other activities necessary for the operation of intercity rail passenger Service, and provide supporting information, including citations to authorizing legislation and a legal opinion from the applicant's legal counsel.

v. Project Eligibility Criteria: The applicant must explain how the proposed project meets the project eligibility criteria in Section C(3) of this Notice.

vi. Detailed Project Description: The applicant must include a detailed project description that expands upon the project summary. This detailed description should provide the following, at a minimum: ¹⁶ (1) the specific components and elements of the proposed project, including planned Service frequency; (2) name and description of the planned Routes and schedules; (3) station facilities; (4) equipment that will be used and how it will be acquired or refurbished (if necessary); (5) where equipment will be maintained and by which entity; (6) additional background on the challenges the project aims to address; (7) the expected users and beneficiaries of the project; projected ridership, Revenues and costs; (8) all railroads/entities owning tracks to be used; (9) Service providers or entities expected to provide Services or facilities that will be used, including access to Amtrak systems, stations, and facilities; (10) train operators and their qualifications; (11) plan for ensuring safe operations; and (12) any other information the applicant deems necessary to justify the proposed project. An applicant must also specify whether it is seeking funding for a proposed project that has already received federal financial assistance, and, if applicable, explain how the proposed scope to be funded under this Notice relates to the previous scope that has received federal financial assistance.

¹⁶ The information should be consistent with details in the capital and mobilization plan and operating plan.

vii. Project Location: The applicant must include geospatial data for the project along with other information as shown in the example project location table below, as well as a map of the proposed project's location. Geospatial data can be expressed in terms of decimal degrees for latitude and longitude of at least five decimal places of precision ¹⁷ (preferred option), along with start and end mileposts designating railroad code and subdivision name. On the map, include the Congressional districts in which the proposed project will take place.

¹⁷ For example, if a project was proposed to start at a (hypothetical) station at the Department of Transportation Headquarters in Washington, DC, then the reported latitude should be 38.87589 and the longitude should be reported as −77.00337.

Project Location Table
| Location (e.g., corridor/route name) | Start latitude | Start longitude | End latitude | End longitude | Host railroad | Right-of-way owner(s) | Railroad subdivision
Name of Service

viii. Evaluation and Selection Criteria: The applicant must include a thorough discussion of how the proposed project meets all the evaluation and selection criteria. FRA will evaluate applications based on project readiness, technical merit, and project benefits, and will consider how the applicant's project aligns with selection criteria (selection preferences and Administration Priorities). If an application does not sufficiently address the evaluation criteria and the selection criteria, it is unlikely to be a competitive application. Applicants are expected to follow the directions and format requested in this NOFO, and adherence to these directions will be considered in evaluations. Applicants are encouraged to include quantifiable data related to the Initiation, Enhancement, or Restoration of Service.

ix. Project Implementation and Management: The applicant must describe proposed project implementation and project management arrangements. Include descriptions of the expected arrangements for project contracting, contract oversight, change-order management, risk management, and conformance to federal requirements for project progress reporting. Demonstrate legal, financial, and technical capacity to perform the proposed project.

Further, applicants must provide their plan for taking affirmative steps to employ small businesses consistent with 2 CFR 200.321. Describe past experience in managing and overseeing similar projects, as applicable; the technical qualifications and demonstrated experience of key personnel proposed to lead and perform the technical efforts; and the qualifications of the primary and supporting organizations to fully and successfully execute the proposed project within the proposed timeframe and budget, including a discussion of the risk evaluation factors in 2 CFR 200.206(b) and the proposed approach to assessing and mitigating project risk (these factors may be summarized in the Project Narrative and additional information may be provided as supporting documentation, as applicable).¹⁸

¹⁸ Project risks, such as procurement delays, litigation uncertainties, pending decisions on securing commitments of funds (and any uncertainty with timing of necessary state/local legislative appropriation action) or other federal funding assistance sources, concerns expressed by stakeholders, or lack of legislative approval, affect the likelihood of successful project start and completion. Applicants must identify all material risks to the project and the strategies that the lead applicant and any project partners have undertaken or will undertake to mitigate those risks. The applicant will assess the greatest risks to the project and identify how the project parties will mitigate those risks. The applicant must include its risk monitoring, management and mitigation strategy and explain management staffing plans and procedures.

b. Additional Application Elements

Applicants must submit the documents and forms listed in this section. NOTE: The Standard OMB Forms needed for the electronic application process are available at: www.Grants.gov.

i. A statement of work (SOW) addressing the scope, budget, estimated project schedule, and performance measures for the proposed project if it were selected for award. Applicants are expected to use the templates for the SOW, project budget, estimated project schedule, and performance measures that are Articles 4-7 of Attachment 2: Restoration and Enhancement Grant Program Project Specific Terms and Conditions. Those documents must contain sufficient detail so FRA, and the applicant, can understand the expected outcomes of the proposed work to be performed and can monitor progress toward completing project tasks and deliverables during a prospective grant's period of performance. Applications that do not follow this format may be considered incomplete and may not be reviewed.¹⁹

¹⁹ The FRA grant agreement consists of three parts: Attachment 1: Standard Terms and Conditions, Attachment 2: Project-Specific Terms and Conditions, and Terms and Conditions Exhibits. The updated agreements are available at: https://railroads.dot.gov/grants-loans/fra-discretionary-grant-agreements.

When preparing the budget, the estimated total Net Operating Cost of the proposed project must be based on the best available information, including engineering studies, studies of economic feasibility, environmental analyses, and information on the expected use of equipment and/or facilities. The project schedule should be sufficiently detailed to include the date when the first Year of Service will commence and the planned Revenue Service start date, as well as reasonable due dates for expenses associated with the operation of the Service.

For all proposed projects, applicants must provide information about proposed performance measures, as described in Section F(3) and required in 2 CFR 200.301. Further, applicants must provide their plan for taking affirmative steps to employ small businesses consistent with 2 CFR 200.321.

ii. Capital and mobilization plan that includes:

(A) A description of any necessary capital investments recently completed or not-yet-completed for the Service that are related to the proposed project (as applicable), Service planning actions (such as environmental reviews), and mobilization actions (such as qualifications of train crews) required for Initiation, Enhancement, or Restoration of the intercity passenger rail transportation; and

(B) A timeline for undertaking and completing each of the investments and actions referred to in subparagraph (A) above. Applicants must follow the sample timeline table format to the extent practical (modifications can be made by adding rows or columns, as appropriate). In addition, the timeline table must include all actions required, along with realistic, estimated completion timeframes, to start Service, using FRA's anticipated R&E award selection timeframe as a key milestone—see the FRA Discretionary Grants Calendar on the FRA website.²⁰ The applicant should describe which eligible R&E activity(ies) are part of the first Year of Service to help inform when R&E grant cost accounting would start. Separate from the table, applicants should describe any assumptions or provide any explanatory information to add proper context.

²⁰ https://railroads.dot.gov/elibrary/calendar-fra-publications-cy2024 or https://railroads.dot.gov/grants-loans/grants-loans (under the `Related Links' section).

Sample Timeline Table
Activity * | Status (not started, in progress, complete, or not applicable **) | R&E eligible activity planned to be part of first year of service? (yes/no) | Est. start date (month/year) | Est. completion date (month/year)
Environmental Clearance |  |  | MONTH 202X | MONTH 202X.
Securing Equipment
Train Crew Hiring
Train Crew Qualifying
Agreement with host railroad (preparation of draft through execution)
Operating agreement (preparation of draft through execution)
Cost share agreement (preparation of draft through execution)
Process of securing approvals for the name of the new Service, as applicable
[Insert other activity (e.g., any necessary capital improvements, etc.)]
[Insert other activity]
Start of Revenue Service
* Applicants should include all major and notable activities, whether they are eligible or not eligible under the R&E Program, that are necessary for Revenue Service to begin. If an activity is complete at the time of application submission, indicate completion date (Month/Year).

iii. Operating plan describing:

(A) Planned Service operation;

(B) Identity and qualifications of the train operator;

(C) Identity and qualifications of any other Service providers (e.g., on-board Service, equipment maintenance, station staff);

(D) Service frequency;

(E) Planned Routes and schedules;

(F) Station facilities that will be utilized;

(G) Projected ridership, Revenues, and costs, along with descriptions of how and when the projections were developed;

(H) Equipment that will be utilized, how and when such equipment will be acquired or refurbished (if necessary), and where such equipment will be maintained; and

(I) A plan for ensuring safe operations and compliance with applicable safety regulations.

iv. Funding plan that:

(A) Describes the funding of initial capital costs and Operating Costs for the first six years of operation, along with projected Revenue and Net Operating Costs. Provide date of cost estimates and indicate if cost estimate updates are pending or needed;

(B) Includes commitment by the applicant to provide the funds described in subparagraph (1) to the extent not covered by federal grants and Revenues; and

(C) Describes the funding of Operating Costs and capital costs, to the extent necessary, after the first six years of operation.

(D) The applicant should propose a schedule for payment of invoices and submission of federal reimbursement requests.²¹ Also, describe how that proposed schedule aligns with the applicant's fiscal year and reconciliation of expenditures. The applicant should generally describe its process, including timeframes, to reconcile Operating Costs and account for Revenue for each Year of Service in relation to its fiscal year. For example, if some Operating Costs for the first Year of Service are incurred near the end of the fiscal year, describe the process to reconcile all first Year of Service Operating Costs, as it could impact budgeting and financial accounting for subsequent Years of Service. FRA will work with applicants selected for an R&E award to review and discuss further.

²¹ Applicant can list timeframes, such as “invoices to be paid [insert number] days after receipt of invoice; reimbursement requests would be submitted on [insert appropriate timeframe (quarterly, semi-annually, etc.)] basis, etc.”

v. Status of negotiations and agreements with:

(A) Each of the railroads or regional transportation authorities whose tracks or facilities would be utilized by the Service;

(B) The anticipated Rail Carrier if such entity is not part of the applicant group;

(C) Any other Service providers or entities expected to provide Services or facilities that will be used by the Service, including any required access to Amtrak systems, stations, and facilities if Amtrak is not part of the applicant group; and

(D) Cost share partners if there will be multiple parties contributing toward the cost of the Service. Indicate the level of approval required within each entity and/or if any council, board, or legislative approval is required.

vi. Environmental compliance documentation, as applicable, if a website link is not cited in the Project Narrative. Applicants should explain what federal (and, if appropriate, state, tribal, and local) environmental compliance and permitting requirements have been completed. Such requirements include NEPA and other federal, state, tribal, and local permitting requirements, if applicable. For all other federal, state, tribal, and local permitting requirements, the applicant should describe which permits apply, the status of those reviews, and the expected timeline for completion. If the NEPA process is complete, an applicant should indicate the date of completion, and provide a website link or other reference to the documents demonstrating compliance with NEPA, which might include a final Categorical Exclusion determination documentation, Finding of No Significant Impact, or Record of Decision. If the NEPA process is not yet underway, the application should state this. If the NEPA process is underway, but not complete, the application should detail the type of NEPA review underway, where the project is in the process, and indicate the anticipated date of completion of all NEPA-related milestones. Additional information regarding FRA's environmental processes and requirements is located at https://railroads.dot.gov/rail-network-development/environment/environment.

vii. SF 424—Application for Federal Assistance.

viii. SF 424A—Budget Information for Non-Construction.

ix. SF 424B—Assurances for Non-Construction.

x. FRA F30—Certification Regarding Debarment, Suspension and Other Responsibility Matters, Drug-Free Workplace Requirements and Lobbying.

xi. FRA F 251—Applicant Financial Capability Questionnaire.

xii. SF LLL—Disclosure of Lobbying Activities.

3. Unique Entity Identifier (UEI) and System for Award Management (SAM)

To apply for funding through www.Grants.gov, applicants must be properly registered in SAM before submitting an application, provide a valid UEI in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date.

FRA may not make a grant award to an applicant until the applicant has complied with all applicable SAM requirements, and if an applicant has not fully complied with the requirements by the time the federal awarding agency is ready to make a federal award, the federal awarding agency may determine that the applicant is not qualified to receive a federal award and use that determination as a basis for making a federal award to another applicant. Late applications, including those that are the result of a failure to register or comply with Grants.gov applicant requirements in a timely manner, will not be considered. If an applicant has not fully complied with the requirements by the submission deadline, the application will not be considered. To submit an application through www.Grants.gov, applicants must follow the directions below in Section D(3)(a).

a. Register With the SAM at www.SAM.gov

All applicants for federal financial assistance must maintain current registrations in the SAM database. An applicant must be registered in SAM to successfully register in Grants.gov. The SAM database is the repository for standard information about federal financial assistance applicants, recipients, and subrecipients. Organizations that have previously submitted applications via www.Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a recipient's immediate and highest-level owner and subsidiaries, as well as on all predecessors that have been awarded a federal contract or grant within the last three years, if applicable. Information about SAM registration procedures is available at www.SAM.gov.

b. Obtain a Unique Entity Identifier

On April 4, 2022, the Federal government discontinued using the Data Universal Numbering System (DUNS). The DUNS number was replaced by a new, non-proprietary identifier that is provided by the System for Award Management (SAM.gov). This new identifier is called the Unique Entity Identifier (UEI), or the Entity ID. To find or request a Unique Entity Identifier, please visit www.SAM.gov.

4. Submission Dates and Times

Applicants must submit complete applications to www.Grants.gov no later than 11:59 p.m. ET, September 30, 2024. Applicants will receive a system-generated acknowledgement of receipt. FRA reviews www.Grants.gov information on dates/times of applications submitted to determine timeliness of submissions. Late applications will be neither reviewed nor considered. To apply for funding under this announcement, all applicants are expected to be registered as an organization with Grants.gov. Applicants are strongly encouraged to apply early to ensure all materials are received before this deadline.

To ensure a fair competition of limited discretionary funds, no late submissions will be reviewed for any reason, including: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this Program. Applicants must contact their state single point of contact to comply with their state's process under Executive Order 12372.²²

²² https://www.archives.gov/federal-register/codification/executive-order/12372.html.

6. Funding Restrictions

Consistent with 2 CFR 200.458, as applicable, FRA will only approve pre-award costs if such costs are incurred pursuant to the negotiation and in anticipation of the grant agreement and if such costs are necessary for efficient and timely performance of the scope of work.²³ Under 2 CFR 200.458, grant recipients must seek written approval from FRA for pre-award activities to be eligible for reimbursement under the grant. Activities initiated prior to the execution of a grant or without FRA's written approval may be ineligible for reimbursement.

²³ For more information on pre-award costs, see FRA Answers to Frequently Asked Questions about Pre-Award Authority, available at: https://railroads.dot.gov/elibrary/federal-railroad-administration-answers-frequently-asked-questions-about-pre-award.

FRA is prohibited under 49 U.S.C. 22905(f) from providing R&E grants for Commuter Rail Passenger Transportation. FRA's interpretation of this provision is informed by the language in 49 U.S.C. 22908(b). Under this NOFO, FRA's primary intent in funding projects is to help offset initial operating losses while the new or expanded Intercity Passenger Rail Services build their ridership and Revenue base. Such projects may be located on shared corridors where Commuter Rail Passenger Transportation and/or freight rail also benefit from the project.

7. Other Submission Requirements

a. Submission Location

Applications must be submitted to www.Grants.gov. FRA does not accept applications via mailed paper, fax machine, email, or other means.

b. Consideration of Applications

Only applicants who comply with all submission deadlines described in this NOFO and electronically submit valid, on-time applications through www.Grants.gov will be eligible for award.

c. Late Applications

Any applications that Grants.gov time stamps after 11:59 p.m. ET September 30, 2024 will not be accepted. Applicants are strongly encouraged to make submissions days, if not weeks, in advance of the deadline, and applicants facing technical issues are advised to contact the Grants.gov helpdesk well in advance of the deadline.

E. Application Review Information

1. Criteria

a. Eligibility and Completeness Review

FRA will first screen each application for applicant and project eligibility (eligibility requirements are outlined in Section C of this Notice) and completeness (application documentation and submission requirements are outlined in Section D of this Notice). As described in Section D(2)(a)(iv), FRA will also evaluate information provided by the applicant to identify and support its legal authority to undertake the activities it would conduct if it is selected for an R&E grant award.

b. Evaluation Criteria

FRA will evaluate all eligible and complete applications using the evaluation criteria (as part of the merit review) outlined in this section to determine project readiness, technical merit, and project benefits. FRA will consider the adequacy of information provided in the application in evaluating whether the application is complete and responsive to the evaluation criteria.

i. Project Readiness

In evaluating Project Readiness, FRA will evaluate project and applicant risk based on the applicant's preparedness and capacity to implement the proposed project, including whether the applicant is reasonably equipped to begin operation of the Service in a timely manner to meet their proposed schedule. FRA will evaluate whether the applicant is able to meet project milestones and use federal funds efficiently to deliver the proposed project.²⁴ In addition to responding to the Project Readiness criteria, applicants should provide a thorough summary of the following, which should overlap with information in the required documents: operating plan; capital and mobilization plan including any capital investments, Service planning actions, mobilization actions (such as qualification of train crews); and timeline for undertaking and completing each of the investments. Describe additional information such as the status of negotiation of any cost share agreements between partners (indicate the level of approval required within each entity); acquisition of equipment status and timeline; construction of any necessary infrastructure for the Initiation, Restoration, or Enhancement of Service to be funded under this Notice; status of the installation and/or full implementation of a Positive Train Control system, as applicable; other federal/non-federal agency approvals (e.g. Surface Transportation Board approval); and, other actions necessary for Initiation, Restoration, and Enhancement of Service that have been completed or remain necessary for completion.

²⁴ Additional information on DOT's Project Readiness checklist can be found here: https://www.transportation.gov/grants/dot-navigator/project-readiness-checklist-dot-discretionary-grant-applicants.

FRA will evaluate application information for the degree to which the application demonstrates strong project readiness, evidenced by:

(A) The appropriate planning, design, any environmental reviews, negotiation of agreements, acquisition of equipment, construction, and other actions necessary for Initiation, Restoration, or Enhancement of Service have been completed or nearly completed (49 U.S.C. 22908(d)(1));

(B) Funds are committed (i.e., level of certainty of the commitment, such as the funds are secured with necessary approvals vs. necessary approvals are pending) to cover the portion of the Net Operating Costs not covered by the R&E grant;

(C) The capital and mobilization plan, operating plan, funding plan, and status of negotiations and agreements described in Section D(2)(b), are appropriate for the proposed project, including the planned first Year of Service, proposed Service start date, and subsequent Year(s) of Service included in the proposed grant period of the proposed project, at a minimum (See 49 U.S.C. 22908(c)).

ii. Technical Merit

In evaluating Technical Merit, FRA will evaluate the degree to which the SOW, project budget, and estimated project schedule are reasonable and appropriate to achieve the expected outcomes, commitment of necessary resources and workforce to deliver the project, and the proposed project elements are appropriate for the project funding request. FRA will also consider applicant risk with respect to the applicant's past performance as a FRA recipient for grant-funded projects, as applicable. FRA will evaluate application information for the degree to which:

(A) The tasks and subtasks outlined in the SOW, estimated project schedule, and project budget, are reasonable and appropriate to achieve the expected outcomes of the proposed project;

(B) The technical qualifications and demonstrated experience of key personnel proposed to lead and perform the technical efforts, and the qualifications of the primary and supporting organizations to fully and successfully execute the proposed project within the proposed timeframe and budget;

(C) The applicant's past performance in developing and delivering similar projects, as applicable, and previous financial contributions;

(D) The applicant's proposed approach to assessing and mitigating risk is appropriate for the proposed project;

(E) Whether the applicant has, or will have, the legal, financial, and technical capacity to carry out the project; satisfactory continuing access to equipment or facilities; and the capability and willingness to maintain the equipment or facilities.

iii. Project Benefits

FRA will evaluate the project benefits of the proposed project for the anticipated private and public benefits, including any combination of the following:

(A) Provide daily or daytime Service over Routes where such Service did not previously exist (49 U.S.C. 22908(d)(3));

(B) Restore Service over Routes formerly operated by Amtrak, including Routes described in section 11304 of the Passenger Rail Reform and Investment Act of 2015 (49 U.S.C. 22908(d)(2));

(C) Provide Service to regions and communities that are underserved or not served by other intercity public transportation (49 U.S.C. 22908(d)(6));

(D) Foster economic development, particularly in rural communities and for disadvantaged populations (49 U.S.C. 22908(d)(7));

(E) Provide other non-transportation benefits (49 U.S.C. 22908(d)(8)); and,

(F) Enhance connectivity and geographic coverage of the existing national network of Intercity Passenger Rail Service (49 U.S.C. 22908(d)(9)).

For each evaluation criterion—Project Readiness, Technical Merit, and Project Benefits—FRA will evaluate whether the application demonstrates level of risk or responsiveness, as applicable, and will result in a rating of “unacceptable,” “high,” “medium,” or “low” as described in the rubric tables below. For each merit criterion, FRA will use rubric ratings with applied criteria to evaluate whether the applications meet the defined thresholds:

Merit Criteria Ratings—Project Readiness (Risk)
[For the Project Readiness Criteria described in Section E(1), FRA will evaluate the application's responsiveness to the criteria, including an assessment of supporting justifications, and assign a cumulative Project Readiness risk rating.]
Unacceptable | High risk | Medium risk | Low risk
Application provides limited or no information necessary to assess the readiness criterion; application fails to demonstrate support, progress, or completion of appropriate Service preparation activities; or application contains one or more barriers that would prevent project delivery. | Application provides insufficient information to assess the readiness criterion; application does not demonstrate that sufficient support, progress, or completion of appropriate Service preparation activities but indicates risk to advancing the project without foreseeable delays; or application contains a barrier that would likely prevent project delivery in any of these areas. | Application provides sufficient information to assess the project readiness criteria; demonstrates support, progress, or completion of appropriate Service preparation activities, but indicates some risk to advancing the project in a timely manner; and the application does not contain a barrier that would likely prevent project delivery in any of these areas. | Application provides thorough and complete information and evidence to assess the project readiness criteria, and demonstrates strong support, progress, or completion of appropriate Service preparation activities, and indicates minimal risk to advancing the project in a timely manner; and application does not contain a barrier that would likely prevent project delivery in any of these areas.

Merit Criteria Ratings—Technical Merit
[For the Technical Merit Criteria described in Section E(1), FRA will evaluate the application's responsiveness to the criteria, including an assessment of supporting justifications, and assign a cumulative technical merit rating.]
Unacceptable | Acceptable | Responsive | Highly responsive
Application provides limited or no information necessary to assess the technical merit criteria, or application demonstrates one or more significant technical challenges that would prevent the applicant from delivering the project. | Application contains insufficient information to assess one or more of the technical merit criteria, or application demonstrates technical challenges that could affect project delivery, but not prevent the applicant from delivering the project. | Application provides sufficient information and evidence to assess the technical merit criteria, and it demonstrates that the applicant can deliver the project with minimal technical challenges. | Application provides thorough and complete information and evidence to assess the technical merit criteria, and sufficiently demonstrates that the project can be successfully delivered by the applicant.

Merit Criteria Ratings—Project Benefits
[For the Project Benefits Criteria described in Section E(1) FRA will evaluate the application's responsiveness to the criteria, including an assessment of supporting justifications, and assign a cumulative Project Benefits rating.]
Unacceptable | Acceptable | Responsive | Highly responsive
Application provides limited or no information necessary to assess the project benefits criteria, and demonstrates the project is not likely to achieve its intended benefits. | The application contains insufficient information to assess the project benefits criteria; or does not demonstrate that the project will achieve all its intended benefits. | Application provides sufficient information to assess the project benefits criteria, and adequately demonstrates that the project will likely achieve its intended benefits. | Application provides thorough and complete information and evidence to assess the project benefits criteria, and it sufficiently demonstrates that the project will achieve its intended benefits.

In addition to the ratings described above, FRA will also apply the selection preferences and consider the Administration Priorities, both described in Section E(1).

iv. Selection Criteria

After completing the review of eligibility, completeness, and evaluation criteria (merit review), among projects of similar merit, FRA will apply the following criteria:

(A) Selection Preferences. FRA will give preference to applications that include or demonstrate—

1. The proposed R&E funding is less than the maximum funding limit for the applicable Year(s) of Service, as specified in Section C(2);

2. The application includes funding more than one source, such as state, local, regional governmental, and/or private sources, demonstrating broad participation by affected stakeholders (49 U.S.C. 22908(d)(4));

3. The applicant has funding plan that demonstrates the Service will be financially sustainable beyond the grant period of performance (49 U.S.C. 22908(d)(5));

4. The proposed Services are on Route(s) selected under the Corridor Identification and Development Program and operated by Amtrak (49 U.S.C. 22908(d)(10)); ²⁵ and,

²⁵ The Corridor Identification and Development Program (Corridor ID) is a new program authorized under IIJA. FRA recently developed the program including the three corridor development steps (Steps), as well as made its first award selections on December 8, 2023, in response to the FY 2022 Corridor ID NOFO. Only projects proposed for funding under this NOFO that have completed all Corridor ID Steps will receive this preference. At the time of publication of this NOFO, no corridor has completed all Corridor ID Steps; therefore, it is not expected that any applicants will benefit from this preference.

5. The start of Revenue Service is likely to occur within one year of award selection. This means most Service preparation activities, particularly activities with uncertain duration or duration of more than one year and activities necessary to resolve complex issues, have been initiated, are well underway, and have realistic near-term completion dates based on supporting explanations and/or documentation. This is due to the limitation on the number of active R&E grants.

(B) Administration Priorities:

USDOT prioritizes projects that help to address transportation insecurity, which is the inability for people to get to where they need to go to meet the needs of their daily life regularly, reliably, and safely due to either the high cost of transportation, lack of access, or lack of safe transportation options. When identifying projects, applicants must consider how the proposed project will increase safety, lower transportation costs, increase the availability of multimodal transportation options, and decrease greenhouse gas emissions. Funding applications should state the identified area of transportation insecurity the project is mitigating or reversing. USDOT will also consider whether the applicant is participating in a federal technical assistance program as part of the cross-government place based technical assistance efforts, as appropriate.

1. Safety: FRA will assess the project's ability to foster a safe transportation system for the movement of goods and people, consistent with the Administration's Priorities to reduce transportation-related fatalities and serious injuries across the transportation system. Such considerations will include, but are not limited to, safe operations of the Intercity Passenger Rail Service. Overall, FRA expects that projects will provide positive safety benefits for all users and not negatively impact safety for all users.

2. Climate Change and Sustainability: FRA will assess the project's ability to reduce the harmful effects of climate change and anticipate necessary improvements to prepare for extreme weather events. Such considerations may include, but are not limited to, the extent to which the project reduces emissions, promotes energy efficiency, increases resiliency, incorporates evidence-based climate resilience measures or features, and avoids adverse environmental impacts to air quality. Projects that lead to a significant reduction of emissions meet the objective of this priority.

3. Equity and Justice40: FRA will assess elements including how the project will enable all people within the multimodal transportation networks to reach their desired destination safely, affordably, and with a comparable level of efficiency and ease, how the project helps reconnect communities and mitigate neighborhood bifurcation, and how the applicant will engage the public, including disadvantaged communities, during the project's operations Lifecycle Stage. FRA will consider the benefits and potential burdens a project may create, who would experience them, and how the benefits and potential burdens will impact underserved/disadvantaged communities.

Applicants are strongly encouraged to use FRA's Justice40 Rail Explorer Tool, (https://usdot.maps.arcgis.com/apps/webappviewer/index.html?id=fd9810f673b64d228ae072bead46f703) in their assessment, which is a rail-specific complement to the USDOT Equitable Transportation Community (ETC) Explorer.²⁶ The FRA Justice40 Rail Explorer Tool provides GIS information on communities and pollution based on the project's location, and applicants can use this tool to note how their project location scores across several different measures. Transportation disadvantaged communities experience burden, as a result of underinvestment in transportation, in the following five components: Transportation Insecurity, Climate and Disaster Risk Burden, Environmental Burden, Health Vulnerability, and Social Vulnerability.

²⁶ As appropriate, applicants may also supplement the Justice40 Rail Explorer Tool by referencing the Climate & Economic Justice Screening Tool (CEJST), a new tool by the White House Council on Environmental Quality (CEQ), that aims to help Federal agencies identify disadvantaged communities as part of the Justice40 initiative to accomplish the goal that 40 percent of benefits from certain federal investment reach disadvantaged communities.

4. Workforce Development, Job Quality, and Wealth Creation: FRA will assess how the project will create good-paying, safe jobs with free and fair choice to join a union; promote investments in high-quality workforce development programs with supportive services to help train, place, and retain people in good-paying jobs or registered apprenticeships, with a focus on women, people of color, and others who are underrepresented in infrastructure jobs (people with disabilities, people with convictions, etc.); and change hiring policies and workplace cultures to promote the entry and retention of underrepresented populations. Also, FRA will consider how the project promotes local inclusive economic development and entrepreneurship such as the utilization of Disadvantaged Business Enterprises, Minority-owned Businesses, Women-owned Businesses, or U.S. Small Business Administration 8(a) Business Development program firms.

For Administration Priorities, FRA will evaluate whether the application demonstrates level of risk or responsiveness, as applicable, and will result in a rating of “Non-responsive,” “Acceptable,” “Responsive,” or “Highly Responsive” as described in the rubric below. Applicants do not need to respond to all of the Administration Priorities if a certain criterion is not applicable to the proposed project or indicate if a criterion is not applicable.

Administration Priorities Ratings
[For the Administration Priorities Criteria described in Section E (1), FRA will evaluate the application's responsiveness to the criteria, including an assessment of supporting justifications.]
Non-responsive | Acceptable | Responsive | Highly responsive
Application contains insufficient information to assess benefits to any of the Administration Priorities OR project is inconsistent with one or more of the Administration Priorities. | Application contains limited information that is supported by some evidence, but primarily described qualitatively, that the project is consistent with at least one of the Administration Priorities. | Application contains sufficient information that is adequately supported by both quantitative and qualitative evidence that the project has clear and direct benefits in at least one of the Administration Priorities. | Application contains thorough and complete information that is strongly supported by both quantitative and qualitative evidence that the project has clear, direct, and significant benefits in one or more of the Administration Priorities, and is not inconsistent with any of the Administration Priorities.

The evaluation process may draw upon subject matter experts within FRA Divisions whose expertise is relevant to understanding the application's responsiveness to the Program criteria, such as assessing the applicant's capacity to successfully deliver the project in compliance with applicable federal requirements based on factors including, but not limited to, the recipient's experience working with federal agencies, previous experience with DOT discretionary grant awards and/or the technical experience and resources dedicated to the proposed project. Finally, in determining the allocation of program funds, FRA may also consider geographic diversity, diversity in the size of the systems receiving funding, and the applicant's receipt of other competitive awards.

Upon completion of all reviews, FRA will finalize an Overall Rating for each application. This rating will be a combination of the results of the three merit criteria reviews, specifically Project Readiness, Project Benefits, and Technical Merit criteria ratings as described in Section E(1); and the Administration Priorities as described in Section E(1). Provided in the Overall Rating Rubric below, each rating has defined parameters by which each application will be assessed.

Overall Rating
Not recommended | Acceptable | Recommended | Highly recommended
The application received an overall score of unacceptable based on Project Readiness, Technical Merit, and Project Benefits ratings, and consideration of Administration Priorities | The application received an overall score of acceptable based on Project Readiness, Technical Merit, and Project Benefits ratings, and consideration of Administration Priorities. | The application received an overall score of recommended based on Project Readiness, Technical Merit, and Project Benefits ratings, and has clear and direct benefits in one of the Administration Priorities. | The application received an overall score of highly recommended based on Project Readiness, Technical Merit, and Project Benefits ratings, and has clear, direct, and significant benefits in one or more of the Administration Priorities.

2. Review and Selection Process

FRA will conduct a five-part application review process, as follows:

a. Intake and Eligibility Phase: Screen applications for applicant and project eligibility, completeness, and the minimum amount of non-federal funds or other federal financial assistance (completed by the Evaluation Management and Oversight Team (EMOT) comprised of FRA program review directors who manage the pre-award process);

b. Evaluation Review Phase: Evaluate remaining applications against the technical merit criteria, project benefit criteria, and project readiness, assess environmental review risk, and consider alignment with the Administration Priorities. The evaluation review is conducted by technical merit review panels consisting of FRA staff. The technical merit review panels may also include other staff from the U.S. Department of Transportation (DOT). The EMOT will compile the results of the Evaluation Review Phase consistent with the R&E Program selection preferences. After considering all FRA reviews under the statutory requirements and evaluation and selection criteria, applications will be assigned an overall rating of “Highly Recommended,” “Recommended,” “Acceptable,” or “Not Recommended”;

c. Steering Committee Phase: The Steering Committee is comprised of Senior Directors with the Office of Railroad Development, which may also include senior leadership from the Railroad Office of Safety and other relevant departments. The Steering Committee advises the EMOT in the development and review of the proposed materials in preparation of the Senior Review Team (SRT) briefing. The Steering Committee may request more information from FRA offices whose expertise may be relevant.

d. Senior Review Phase: The SRT will review, apply selection criteria, and recommend initial selection of projects for the FRA Administrator's review (completed by a Senior Review Team, which will include FRA senior leadership and may include senior leadership from the Office of the Secretary, as needed); and

e. Selection and Award Phase: Select recommended awards for the Under Secretary of Transportation's or his designee's review and approval (completed by the FRA Administrator).

3. Reporting Matters Related to Integrity and Performance

Before making a federal award with a total amount of federal funding greater than the simplified acquisition threshold per 2 CFR 200.1 and 2 CFR 200.320, FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a federal awarding agency previously entered and is currently in the designated integrity and performance system accessible through SAM.

FRA will consider any comments by the applicant, in addition to the other information, in making a judgment about the applicant's integrity, business ethics, and record of performance under federal awards when completing the review of risk posed by applicants as described in 2 CFR 200.206.

F. Federal Award Administration Information

1. Federal Award Notices

FRA will announce applications selected for funding in a press release and on FRA's website after the application review period. This announcement is FRA's notification to successful and unsuccessful applicants alike. FRA will contact applicants with successful applications after announcement with information and instructions about the award process. This notification is not an authorization to begin proposed project activities. FRA requires satisfaction of applicable requirements by the applicant and a formal agreement signed by both the recipient and the FRA, including an approved scope, schedule, and budget, before obligating the grant. See an example of standard terms and conditions for FRA grant awards at https://railroads.dot.gov/grants-loans/fra-discretionary-grant-agreements. This template is subject to revision.

2. Administrative and National Policy Requirements

In connection with any program or activity conducted with or benefiting from funds awarded under this Notice, recipients of funds must comply with all applicable requirements of federal law, including, without limitation, the Constitution of the United States; the conditions of performance, nondiscrimination requirements, and other assurances made applicable to the award of funds in accordance with regulations of DOT; and applicable federal financial assistance and contracting principles promulgated by the Office of Management and Budget. In complying with these requirements, recipients, must ensure, in particular, that no concession agreements are denied, or other contracting decisions made, on the basis of speech or other activities protected by the First Amendment. If DOT determines that a recipient has failed to comply with applicable federal requirements, DOT may terminate the award of funds and disallow previously incurred costs, requiring the grantee to reimburse any expended award funds.

Examples of administrative and national policy requirements include: 2 CFR part 200; procurement standards at 2 CFR part 200 subpart D, 2 CFR 1207.317, and 2 CFR 200.401; compliance with federal civil rights laws and regulations; disadvantaged business enterprises requirements; debarment and suspension requirements; drug-free workplace requirements; FRA's and OMB's Assurances and Certifications; the Americans with Disabilities Act (ADA); safety requirements; NEPA; and environmental justice requirements. Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905, including protective arrangements that are equivalent to the protective arrangements established under section 504 of the Railroad Revitalization and Regulatory Reform Act of 1976 (45 U.S.C. 836) with respect to employees affected by actions taken in connection with the project to be financed in whole or in part by grants subject to 49 U.S.C. 22905, and the provision deeming operators Rail Carriers and employers for certain purposes.²⁷

²⁷ Under 49 U.S.C. 22905(c)(1), a written agreement between the applicant and the owner of railroad rights-of-way is only required if the project uses the railroad right-of-way. Financial assistance for a project that is limited to operations does not use the railroad right-of-way, so no such agreement is required.

Projects that have not sufficiently considered climate change and sustainability in their planning, as determined by FRA, will be required to do so before obligating a grant, consistent with Executive Order 14008,²⁸ Tackling the Climate Crisis at Home and Abroad (86 FR 7619). In the grant agreement, recipients will be expected to describe activities they have taken or will take that addresses climate change. Activities that address climate change include, but are not limited to, demonstrating the proposed project will result in significant greenhouse gas emissions reductions; the project supports emissions reductions goals in a local/regional/state plan; the project improves disaster preparedness and resilience; and the project primarily focuses on funding for state of good repair and clean transportation options, including public transportation, walking, biking, and micro-mobility. Activities that address environmental justice inequities include, but are not limited to, supporting a modal shift in freight or passenger movement to reduce emissions or reduce induced travel demand.

²⁸ https://www.whitehouse.gov/briefing-room/presidential-actions/2021/01/27/executive-order-on-tackling-the-climate-crisis-at-home-and-abroad/.

Projects must consider and address equity and barriers to opportunity in their planning, as determined by FRA, consistent with Executive Order 13985,²⁹ Advancing Racial Equity and Support for Underserved Communities Through the Federal Government (86 FR 7009). In the grant agreement, recipients should include a description of activities they have taken or will take that addresses equity and barriers to opportunity. These activities may include, but are not limited to: completing an equity impact analysis for the project; adopting an equity and inclusion program/plan; conducting meaningful public engagement to ensure underserved communities are provided an opportunity to be involved in the planning process; including investments that either redress past barriers to opportunity or that proactively create new connections and opportunities for underserved communities; hiring from local communities; improving access to or providing economic growth opportunities for underserved, overburdened, or rural communities; or addressing historic or current inequitable air pollution or other environmental burdens and impacts.

²⁹ https://www.whitehouse.gov/briefing-room/presidential-actions/2021/01/20/executive-order-advancing-racial-equity-and-support-for-underserved-communities-through-the-federal-government/.

Recipients must comply with applicable appropriations act requirements and all relevant requirements of 2 CFR part 200. Rights to intangible property under grants awarded under this NOFO are governed in accordance with 2 CFR part 200.315. See an example of standard terms and conditions for FRA grant awards at https://railroads.fra.dot.gov/elibrary/award-administration-and-grant-conditions. This template is subject to revision.

To the extent that applicants have not sufficiently considered job quality and labor rights in their planning, as determined by the Department of Labor, the applicants will be required to do so before receiving funds for construction, consistent with Executive Order 14025,³⁰ Worker Organizing and Empowerment (86 FR 22829), and Executive Order 14052,³¹ Implementation of the Infrastructure Investment and Jobs Act (86 FR 64335). Specifically, the project delivery actions must support: (a) strong labor standards and the free and fair choice to join a union, including project labor agreements, local hire agreements, distribution of workplace rights notices, and use of an appropriately trained workforce; (b) high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve underrepresented groups, and proactive plans to prevent harassment.

³⁰ https://www.whitehouse.gov/briefing-room/presidential-actions/2021/04/26/executive-order-on-worker-organizing-and-empowerment/.

³¹ https://www.whitehouse.gov/briefing-room/presidential-actions/2022/09/12/executive-order-on-the-implementation-of-the-energy-and-infrastructure-provisions-of-the-inflation-reduction-act-of-2022/.

a. Federal Contract Compliance

As a condition of grant award and consistent with Executive Order 11246,³² Equal Employment Opportunity (30 FR 12319, and as amended), all federally assisted contractors are required to make good faith efforts to meet the goals of 6.9 percent of construction project hours being performed by women, in addition to goals that vary based on geography for construction work hours and for work being performed by people of color. Under Section 503 of the Rehabilitation Act and its implementing regulations, affirmative action obligations for certain contractors include an aspirational employment goal of seven percent workers with disabilities.

³² https://www.dol.gov/agencies/ofccp/executive-order-11246/ca-11246.

The U.S. Department of Labor's Office of Federal Contract Compliance Programs (OFCCP) is charged with protecting America's workers by enforcing equal employment opportunity and affirmative action obligations of employers that do business with the federal government. OFCCP enforces Executive Order 11246, Section 503 of the Rehabilitation Act of 1973, and the Vietnam Era Veterans' Readjustment Assistance Act of 1974. Together these legal authorities make it unlawful for federal contractors and subcontractors to discriminate in employment because of race, color, religion, sex, sexual orientation, gender identity, national origin, disability, or status as a protected veteran.

b. Critical Infrastructure Security, Cybersecurity, and Resilience

It is the policy of the United States to strengthen the security and resilience of its critical infrastructure against both physical and cyber threats. Each applicant selected for federal funding under this notice must demonstrate, prior to signing of the grant agreement, efforts to consider and address physical and cyber security risks relevant to the transportation mode and type and scale of the project. Proposed projects that have not appropriately considered and addressed physical and cyber security and resilience in their planning, design, and project oversight, as determined by the Department and the Department of Homeland Security, will be required to do so before grant obligation, consistent with the National Security Memorandum Presidential Policy Directive 221 to Secure and Enhance the Resilience of U.S. Critical Infrastructure.³³

³³ https://www.whitehouse.gov/briefing-room/statements-releases/2024/04/30/fact-sheet-biden-harris-administration-announces-new-national-security-memorandum-on-critical-infrastructure/.

c. Domestic Preference Requirements

Assistance under this NOFO is subject to the Buy America requirements in 49 U.S.C. 22905(a) and the Build America, Buy America Act, Public Law 117-58, 70901-52. In addition, as expressed in Executive Order 14005,³⁴ Ensuring the Future Is Made in All of America by All of America's Workers (86 FR 7475), it is the policy of the executive branch to maximize, consistent with law, the use of goods, products, and materials produced in, and services offered in, the United States. FRA expects all applicants to comply with that requirement without needing a waiver. However, to obtain a waiver, an applicant must be prepared to demonstrate how the applicant will maximize the use of domestic goods, products, and materials in constructing its project. If an applicant anticipates it may need a waiver, the applicant should indicate the need in its application and submit materials necessary for such requests together with its application.

³⁴ https://www.whitehouse.gov/briefing-room/presidential-actions/2021/01/25/executive-order-on-ensuring-the-future-is-made-in-all-of-america-by-all-of-americas-workers/.

d. Civil Rights and Title VI

As a condition of a grant award, grant recipients should demonstrate that the recipient has a plan for compliance with civil rights obligations and nondiscrimination laws, including Title VI of the Civil Rights Act of 1964 and implementing regulations (49 CFR part 21), the Americans with Disabilities Act of 1990 (ADA), Section 504 of the Rehabilitation Act, all other civil rights requirements, and accompanying regulations. This may include a current Title VI plan, completed Community Participation Plan, and a plan to address any legacy infrastructure or facilities that are not compliant with ADA standards. DOT's and the applicable Operating Administrations' Office of Civil Rights may work with awarded grant recipients to ensure full compliance with Federal civil rights requirements.

3. Reporting

a. Progress Reporting on Grant Activity

Each applicant selected for a grant will be required to comply with all standard FRA reporting requirements, including quarterly progress reports, quarterly federal financial reports, and interim and final performance reports, as well as all applicable auditing, monitoring and close out requirements. Reports may be submitted electronically. Pursuant to 2 CFR 170.210, non-federal entities applying under this NOFO must have the necessary processes and systems in place to comply with the reporting requirements should they receive federal funding.

b. Additional Reporting

Applicants selected for funding are required to comply with all reporting requirements in the standard terms and conditions for FRA grant awards including 2 CFR 180.335 and 2 CFR 180.350. If the total value of a selected applicant's currently active grants, cooperative agreements, and procurement contracts from all federal awarding agencies exceeds $10,000,000 for any period of time during the period of performance of this federal award, then the applicant must maintain the information reported to SAM and ensure that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for federal procurement contracts, will be publicly available.

c. Performance and Program Evaluation

Recipients and subrecipients are also encouraged to incorporate program evaluation, including associated data collection activities from the outset of their program design and implementation, to meaningfully document and measure their progress towards meeting an agency priority goal(s). Title I of the Foundations for Evidence-Based Policymaking Act of 2018 (Evidence Act), Public Law 115-435 (2019) urges federal awarding agencies and federal assistance recipients and subrecipients to use program evaluation as a critical tool to learn, to improve equitable delivery, and to elevate program service and delivery across the Project Performance Period of the grant agreement/cooperative agreement. Evaluation means “an assessment using systematic data collection and analysis of one or more programs, policies, and organizations intended to assess their effectiveness and efficiency” (5 U.S.C. 311). Credible program evaluation activities are implemented with relevance and utility, rigor, independence and objectivity, transparency, and ethics (OMB Circular A-11, Part 6 Section 290).

For grant recipients receiving an award, evaluation costs are allowable costs (either as direct or indirect), unless prohibited by statute or regulation, and such costs may include the personnel and equipment needed for data infrastructure and expertise in data analysis, performance, and evaluation (2 CFR part 200).

d. Performance Reporting

Each applicant selected for funding must collect information and report on the project's performance using measures mutually agreed upon by FRA and the recipient to assess progress in achieving strategic goals and objectives. Examples of some performance measures are listed in the table below. The applicable measure(s) will depend upon the type of project, consistent with the recipient's application materials and program goals.

Example Performance Measures
Performance measures | Unit reported | Primary administration priority | Description
Number of Passenger Trains | Total number of Passenger Trains per Year | Workforce Development, Job Quality, and Wealth Creation | The number of daily passenger trains between city pairs on the Route.
Passenger Ridership (i.e., Counts) | Total Ridership per Year | Workforce Development, Job Quality, and Wealth Creation | Total annual passenger ridership represented in total tickets sold or trips completed for passengers boarding and alighting (departing and arriving) at all stations on the Route.
Annual Revenue | U.S. Dollars per Year | Workforce Development, Job Quality, and Wealth Creation | Total annual Revenue generated from ridership of the Service, represented from total tickets sold for trips originating or terminating at all stations on the Route.

e. Program Evaluation

As a condition of grant award, grantees may be required to participate in an evaluation undertaken by DOT, or another agency or partner. The evaluation may take different forms such as an implementation assessment across grant recipients, an impact and/or outcomes analysis of all or selected sites within or across grantee, or a benefit/cost analysis or assessment of return on investment. DOT may require applicants to collect data elements to aid the evaluation. As a part of the evaluation, as a condition of award, recipient must agree to: (1) make records available to the evaluation contractor; (2) provide access to program records, and any other relevant documents to calculate costs and benefits; (3) in the case of an impact analysis, facilitate the access to relevant information as requested; and (4) follow evaluation procedures as specified by the evaluation contractor or DOT staff.

G. Federal Awarding Agency Contacts

For further information concerning this Notice, please contact the FRA NOFO Support program staff via email at FRA-NOFO-Support@dot.gov. If additional assistance is needed, you may contact Mr. Marc Dixon, Office of Rail Program Development, Federal Railroad Administration, at email: marc.dixon@dot.gov; or telephone: 202-493-0614.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR part 7 Subpart C—Availability of Reasonably Described Records under the Freedom of Information Act which sets forth rules for FRA to make requested materials, information, and records publicly available under FOIA. Unless prohibited by law and to the extent permitted under the FOIA, contents of applications and proposals submitted by successful applicants may be released in response to FOIA requests. In addition, following the completion of the selection process and announcement of awards, FRA may publish a list of all applications received along with the names of the applicant organizations and funding amounts requested. Except for information withheld under the previous paragraph, FRA may also make application narratives publicly available or share application information within DOT or with other Federal agencies if FRA determines that sharing is relevant to the respective program's objectives.

Issued in Washington, DC.
Jennifer Mitchell,
Deputy Administrator.

[FR Doc. 2024-15357 Filed 7-12-24; 8:45 am]

BILLING CODE 4910-06-P